INTERNATIONAL TRADE COMMISSION

[Investigation No. 337-TA-1146]

Certain Taurine (2-Aminoethanesulfonic Acid), Methods of Production and Processes for Making the Same, and Products Containing the Same; Institution of Investigation

AGENCY: U.S. International Trade Commission.

ACTION: Notice.

SUMMARY: Notice is hereby given that a complaint was filed with the U.S. International Trade Commission on January 30, 2019, under section 337 of the Tariff Act of 1930, as amended, on behalf of Vitaworks IP, LLC of North Brunswick, New Jersey; Vitaworks, LLC of North Brunswick, New Jersey; and Dr. Songzhou Hu of North Brunswick, New Jersey. Supplemental exhibits were filed February 19, 2019. The complaint alleges violations of section 337 based upon the importation into the United States, the sale for importation, and the sale within the United States after importation of certain taurine (2-aminoethanesulfonic acid), methods of production and processes for making the same, and products containing the same by reason of infringement of certain claims of U.S. Patent No. 9,573,890 (“the '890 patent”); U.S. Patent No. 9,745,258 (“the '258 patent”); and U.S. Patent No. 10,040,755 (“the '755 patent”). The complaint further alleges that an industry in the United States exists as required by the applicable Federal Statute.

The complainants request that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on February 28, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1 and 3-10 of the '890 patent; claims 1-3 of the '258 patent; and claims 1-9 of the '755 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “taurine in its raw form, or combined with chemical additives such as an anti-caking agent, manufactured through processes featuring the use of alkali isethionate or ammonium isethionate”;

(3) Pursuant to section 210.10(b)(3) of the Commission's Rules of Practice and Procedure, 19 CFR 210.10(b)(3), the presiding Administrative Law Judge shall hold an early evidentiary hearing, find facts, and issue an early decision, within 100 days of institution except for good cause shown, as to whether the complainants have satisfied the economic prong of the domestic industry requirement. Notwithstanding any Commission Rules to the contrary, which are hereby waived, any such decision should be issued in the form of an initial determination (ID) under Commission Rule 210.42(a)(3), 19 CFR 210.42(a)(3). The ID will become the Commission's final determination 30 days after the date of service of the ID unless the Commission determines to review the ID. Any such review will be conducted in accordance with Commission Rules 210.43, 210.44, and 210.45, 19 CFR 210.43, 210.44, and 210.45. The issuance of an early ID finding that complainant does not satisfy the economic prong of the domestic industry requirement shall stay the investigation unless the Commission orders otherwise; any other decision shall not stay the investigation or delay the issuance of a final ID covering the other issues of the investigation;

(4) For the purpose of the investigation so instituted, the following are hereby named as parties upon which this notice of investigation shall be served:

(a) The complainants are:

Vitaworks IP, LLC, 195 Black Horse Lane, North Brunswick, NJ 08902

Vitaworks, LLC, 195 Black Horse Lane, North Brunswick, NJ 08902

Dr. Songzhou Hu, 195 Black Horse Lane, North Brunswick, NJ 08902

(b) The respondents are the following entities alleged to be in violation of section 337, and are the parties upon which the complaint is to be served:

A to Z Nutrition, Inc., 14359 Miramar Parkway, Suite 218, Miramar, FL 33027

Ampak Company, Inc., 1890 Palmer Avenue, Suite 301, Larchmont, NY 10538

Armada Nutrition LLC, 4637 Port Royal Road, Spring Hill, TN 37174

Atlantic Chemicals Trading of North America, Inc., 2 Oliver Street, Suite 602, Boston, MA 02109

Crossroad Ingredients LLC, 271 U.S. 46 West, Suite H206, Fairfield, NJ 07004

Emote International, Inc., 1736 Wright Avenue, La Verne, CA 91750

Epikix, Inc., 6 Imperial Aisle, Irvine, CA 92606

Fuerst Day Lawson (USA), Ltd., Metropolitan Wharf, 70 Wapping Wall, London, England E1W 3SS, United Kingdom

Glanbia Nurtitional (NA), Inc., 2840 Loker Avenue East, Carlsbad, CA 92101

Greating Shipping Co., 2225 W. Commonwealth Avenue, Suite 316, Alhambra, CA 91803

Green Wave Ingredients, Inc., 14821 Northam Street, La Mirada, CA 90638

Hard Eight Nutrition, LLC, 7511 Eastgate Road, Henderson, NV 89011

Fuchi Pharmaceutical Co., Ltd. d/b/a, Hubei Grand Life Science and Technology Co., Ltd., 12 Wangfen Road, Fuchi Town, Yangxin County, Hubei Province, China 435200

Jiangyin Huachang Food Additive Co., Ltd., No. 152, Yingbin West Road, Huangtu Town, JiangYin City, Jiang Su Province, China 214445

Natural Ingredient Corp., 155 N. Lake Avenue, 8th Floor, Suite 808, Pasadena, CA 91101

JSW Enterprises, LLC d/b/a, Nurtavative Ingredients, 600 Century Parkway, Suite 200, Allen, TX 75013

N.V.E., Inc. a/k/a, N.V.E. Pharmaceuticals, Inc., 15 Whitehall Road, Andover, NJ 07821

Pacific Rainbow International, Inc., 19905 Harrison Avenue, City of Industry, CA 91789

Pharmachem Laboratories, Inc., 265 Harrison Avenue, Kearny, NJ 07032

Prinova USA, LLC, 285 E. Fullerton Avenue, Carol Stream, IL 60188

Qianjiang Yongan Pharma. Co., Ltd., No. 2, Guangze Avenue, Economic Development Zone, Qianjiang City, Hubei Province, China 433132

SEM Minerals, L.P., 3806 Gardner Expressway, Quincy, IL 62305

Signo, LLC, 2000 S. Dairy Ashford Road, Suite 370, Houston, TX 77077

Stauber Holdings, Inc., f/k/a, Stauber Performance Ingredients, Inc., 4120 N. Palm Street, Fullerton, CA 92835-1026

Shandong Xinhua Pharmaceutical USA, Inc., d/b/a SX Pharma, 2025 Mountain View Road, South El Monte, CA 91733

Uniprime International, LLC, 99 Corbett Way, Eatontown, NJ 07724

Wild Flavors, Inc., 1261 Pacific Avenue, Erlanger, KY 41018

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 28, 2019.
Lisa Barton,
Secretary to the Commission.

[FR Doc. 2019-03988 Filed 3-5-19; 8:45 am]

BILLING CODE 7020-02-P